DEPARTMENT OF ENERGY

Federal Energy Regulatory Commission

[Project No. 2972-027]

City of Woonsocket, Rhode Island; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 2972-027.

c. Date filed: November 1, 2018.

d. Applicant: City of Woonsocket, Rhode Island (City).

e. Name of Project: Woonsocket Falls Project.

f. Location: On the Blackstone River in the City of Woonsocket, Providence County, Rhode Island. There are no federal or tribal lands within the project boundary.

g. Filed Pursuant to: Federal Power Act 16 U.S.C. 791(a)-825(r).

h. Applicant Contact: Mr. Michael Debroisse, City of Woonsocket, Engineering, 169 Main Street, Woonsocket, RI 02895; (401) 767-9213.

i. FERC Contact: Patrick Crile, (202) 502-8042 or patrick.crile@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2972-027.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis.

l. The existing Woonsocket Falls Project utilizes water from an impoundment that is created by the U.S. Army Corps of Engineers' (Corps) Woonsocket Falls Dam. The project consists of: (1) A 14-foot-wide, 20.5-foot-high concrete intake structure located about 60 feet upstream of the Woonsocket Falls Dam and fitted with a 12.4-foot-wide, 23.5-foot-high steel trash rack having 3.5-inch clear bar spacing; (2) a 275-foot long, 12-foot-wide, 10-foot-high concrete penstock; (3) a steel headgate integral with the powerhouse; (4) a 65-foot-long, 25-foot-wide, 20-foot-high concrete powerhouse containing one adjustable blade turbine-generator unit with an authorized capacity of 1,200 kilowatts; (5) a 50-foot-long, 12.5-foot-diameter steel draft tube; (6) an approximately 50-foot-long, 20-foot-wide, 15-foot-deep tailrace; (7) a 35-foot-long, 4.16 kilovolt (kV) generator lead line, a 4.16/13.8-kV step-up transformer, and a 1,200-foot-long, 13.8-kV transmission line connecting the project generator to the regional grid; and (8) appurtenant facilities.

The Woonsocket Falls dam and impoundment are owned and operated by the Corps for flood control purposes. The dam is equipped with four radial gates that typically remain closed for all flows less than 2,300 cubic feet per second (cfs). When river flow is less than 2,300 cfs, the impoundment is maintained at a water surface elevation of 147.5 feet North American Vertical Datum of 1988 (NAVD88). When river flow is greater than 2,300 cfs, the Corps begins opening the radial gates to maintain a water surface elevation of 147.3 feet NAVD88.

The dam and impoundment are operated in a run-of-river mode. When generating, the City conveys water through the intake structure on the east bank of the river, into the penstock and project powerhouse, and then discharges the water to the project tailrace and the Blackstone River.

The project bypasses approximately 360 feet of the Blackstone River and there is currently no required minimum instream flow for the bypassed reach. However, a flow of 20 cfs is provided to the bypassed reach over the crest of the dam. When river flow is less than or greater than the hydraulic capacity of the turbine (i.e., 230 cfs and 850 cfs, respectively), water is spilled over the dam into the bypassed reach. The Woonsocket Falls project has an average annual generation of approximately 4,584 megawatt-hours.

The City proposes to: (1) Operate the impoundment in a run-of-river mode pursuant to an operating plan and Memorandum of Agreement (MOA) with the Corps; (2) provide a year-round minimum flow of 20 cfs to the bypassed reach pursuant to an operating plan and MOA with the Corps; (3) provide upstream eel passage; and (4) implement nighttime turbine shutdowns during the downstream eel passage season to protect eels during passage.

m. A copy of the application is available for review at the Commission in the Public Reference Room or may be viewed on the Commission's website at http://www.ferc.gov using the eLibrary link. Enter the docket number excluding the last three digits in the docket number field to access the document. For assistance, contact FERC Online Support. A copy is also available for inspection and reproduction inspection and reproduction at the addresses in item h above.

n. Anyone may submit comments, a protest, or a motion to intervene in accordance with the requirements of the Commission's Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

p. Procedural Schedule: The application will be processed according to the following revised schedule. Revisions to the schedule may be made as appropriate.

Milestone | Target date
Filing of interventions, protests, comments, recommendations, preliminary terms and conditions, and preliminary fishway prescriptions | November 2019.
Commission issues Environmental Assessment | April 2020.
Comments on Environmental Assessment | May 2020.

Final amendments to the application must be filed with the Commission no later than 30 days from the issuance date of this notice.

Dated: September 26, 2019.
Nathaniel J. Davis, Sr.,
Deputy Secretary.

[FR Doc. 2019-21408 Filed 10-1-19; 8:45 am]

BILLING CODE 6717-01-P